DEPARTMENT OF ENERGY

10 CFR Part 430

[Docket No. EERE-2013-BT-STD-0006]

RIN 1904-AC55

Energy Efficiency Program for Commercial and Industrial Equipment: Availability of Provisional Analysis Tools and Notice of Data Availability

AGENCY: Office of Energy Efficiency and Renewable Energy, Department of Energy.

ACTION: Reopening of public comment period.

SUMMARY: On November 1, 2016, the U.S. Department of Energy (DOE) published in the Federal Register a notice of data availability (NODA) pertaining to the provisional analysis of energy conservation standards for commercial and industrial fans and blowers. The notice provided an opportunity for submitting written comments, data, and information by December 1, 2016. This document announces a reopening of the public comment period for submitting comments and data on the NODA. The comment period is reopened until January 6, 2017.

DATES: The comment period for the notice of data availability published on November 1, 2016 (81 FR 75742) is reopened. DOE will accept comments, data, and information regarding this rulemaking received no later than January 6, 2017.

ADDRESSES: Instructions: Any comments submitted must identify the NODA for commercial and industrial fans and blowers and provide docket number EERE-2013-BT-STD-0006 and/or RIN number 1904-AC55. Comments may be submitted using any of the following methods:

(1) Federal eRulemaking Portal: http://www.regulations.gov. Follow the instructions for submitting comments.

(2) Email: CIFB2013STD0006@ee.doe.gov. Include the docket number and/or RIN in the subject line of the message. Submit electronic comments in WordPerfect, Microsoft Word, PDF, or ASCII file format, and avoid the use of special characters or any form of encryption.

(3) Postal Mail: Appliance and Equipment Standards Program, U.S. Department of Energy, Building Technologies Office, Mailstop EE-5B, 1000 Independence Avenue SW., Washington, DC 20585-0121. If possible, please submit all items on a compact disc (CD), in which case it is not necessary to include printed copies.

(4) Hand Delivery/Courier: Appliance and Equipment Standards Program, U.S. Department of Energy, Building Technologies Office, 950 L'Enfant Plaza SW., 6th Floor, Washington, DC 20024. Telephone: (202) 586-6636. If possible, please submit all items on a CD, in which case it is not necessary to include printed copies.

Docket: The docket, which includes Federal Register notices, public meeting attendee lists and transcripts, comments, and other supporting documents/materials, is available for review at www.regulations.gov. All documents in the docket are listed in the www.regulations.gov index. However, some documents listed in the index may not be publicly available, such as those containing information that is exempt from public disclosure.

The docket Web page can be found at: https://www.regulations.gov/docket?D=EERE-2013-BT-STD-0006. The docket Web page contains simple instructions on how to access all documents, including public comments, in the docket.

FOR FURTHER INFORMATION CONTACT:

Ashley Armstrong, U.S. Department of Energy, Office of Energy Efficiency and Renewable Energy, Building Technologies, EE-2J, 1000 Independence Avenue SW., Washington, DC 20585-0121. Telephone: (202) 586-6636. Email: ApplianceStandardsQuestions@ee.doe.gov.

Mr. Peter Cochran, U.S. Department of Energy, Office of the General Counsel, GC-33, 1000 Independence Avenue SW., Washington, DC 20585-0121. Telephone: (202) 586-9496. Email: peter.cochran@hq.doe.gov.

SUPPLEMENTARY INFORMATION: On November 1, 2016, DOE published a notice of data availability (NODA) pertaining to energy conservation standards for commercial and industrial blowers (81 FR 75742). The NODA announced the availability of provisional analysis tools and results that DOE may use to support energy conservation standards for commercial and industrial fans and blowers. The November 2016 NODA provided for the submission of public comments by December 1, 2016. The Air Conditioning, Heating, and Refrigeration Institute (AHRI), and the Air Movement and Control Association (AMCA) requested an extension of the public comment period to allow for additional time to review and evaluate the changes reflected in the provisional analysis tools and results associated with the November 2016 NODA compared to the revised provisional analysis tools and results associated with the previous NODA, which DOE published on May 1, 2015. 80 FR 24841.

In view of the requests for an additional comment period extension for the November 2016 NODA, DOE has determined that a reopening of the comment period to allow additional time for interested parties to submit comments is appropriate. Therefore, DOE is reopening the comment period until January 6, 2017, to provide interested parties additional time to prepare and submit comments. DOE further notes that any submissions of comments or other information submitted between the original comment end date and January 6, 2017, will be deemed timely filed.

Issued in Washington, DC, on November 30, 2016.
Kathleen B. Hogan,
Deputy Assistant Secretary for Energy Efficiency, Energy Efficiency and Renewable Energy.

[FR Doc. 2016-30299 Filed 12-15-16; 8:45 am]

BILLING CODE 6450-01-P